DEPARTMENT OF THE INTERIOR

Fish and Wildlife Service

Endangered and Threatened Wildlife and Plants; Initiation of a 5-Year Review of 5 Listed Species: The Virginia Northern Flying Squirrel (Glaucomys sabrinus fuscus), Delmarva Peninsula Fox Squirrel (Sciurus niger cinereus), Northeastern Bulrush (Scirpus ancistrochaetus), Chittenango Ovate Amber Snail (Succinea chittenangoensis), and Virginia Round-Leaf Birch (Betula uber)

AGENCY: U.S. Fish and Wildlife Service, Department of the Interior.

ACTION: Notice.

SUMMARY: The U.S. Fish and Wildlife Service (Service) announces a 5-year review of the endangered Virginia northern flying squirrel (Glaucomys sabrinus fuscus), Delmarva Peninsula fox squirrel (Sciurus niger cinereus), northeaster bulrush (Scirpus ancistrochaetus), and the threatened Chittenango ovate amber snail (Novisuccinea chittenangoensis), and Virginia round-leaf birch (Betula uber) under section 4(c)(2)(A) of the Endangered Species Act (ESA) of 1973 (16 U.S.C. 1531 et seq.). A 5-year review is a periodic process conducted to ensure that the listing classification of a species is accurate. A 5-year review is based on the best scientific and commercial data available at the time of the review; therefore, we are requesting submission of any such information on the Virginia northern flying squirrel, Delmarva Peninsula fox squirrel, and northeastern bulrush that has become available since their original listings as endangered species in 1985 (50 FR 26999-27002), 1967 (32 FR 4001), and 1991 (56 FR 21091-21096), respectively. In addition, we are requesting submission of any such information on the Chittenango ovate amber snail that has become available since its listing as a threatened species in 1978 (43 FR 28932-28935), and on the Virginia round-leaf birch, which was originally listed as endangered in 1978 (43 FR 17910-17916) and reclassified as threatened in 1994 (59 FR 59173-59177). Based on the results of these 5-year reviews, we will make the requisite findings under section 4(c)(2)(B) of the ESA.

DATES: To allow adequate time to conduct this review, we must receive your information no later than September 6, 2005. However, we will continue to accept new information about any listed species at any time.

ADDRESSES: Submit information to the U.S. Fish and Wildlife Service, Northeast Regional Office, 300 Westgate Center Drive, Hadley, Massachusetts 01035, to the attention of Ms. Mary Parkin. Information received in response to this notice and review will be available for public inspection, by appointment, during normal business hours, at the above address. Information may also be sent to Mary_Parkin@fws.gov.

FOR FURTHER INFORMATION CONTACT: Ms. Mary Parkin at the above address or at 617-876-6173.

SUPPLEMENTARY INFORMATION: Under the ESA, the Service maintains a list of endangered and threatened wildlife and plant species at 50 CFR 17.11 (for animals) and 17.12 (for plants). Section 4(c)(2)(A) of the ESA requires that we conduct a review of listed species at least once every 5 years. Then, on the basis of such reviews under section 4(c)(2)(B), we determine whether or not any species should be removed from the list (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the Virginia northern flying squirrel, Delmarva Peninsula fox squirrel, and northeastern bulrush, currently listed as endangered, and the Chittenango ovate amber snail and Virginia round-leaf birch, currently listed as threatened.

Public Solicitation of New Information: To ensure that the 5-year review is complete and based on the best available scientific and commercial information, we are soliciting new information from the public, concerned governmental agencies, Tribes, the scientific community, industry, environmental entities, and any other interested parties concerning the status of the Virginia northern flying squirrel, Delmarva Peninsula fox squirrel, northeastern bulrush, Chittenango ovate amber snail, and Virginia round-leaf birch.

The 5-year review considers that the best scientific and commercial data and all new information that has become available since the listing determination or most recent status review. Categories of requested information include: (A) Species biology, including, but not limited to, population trends, distribution, abundance, demographics, and genetics; (B) habitat conditions, including, but not limited to, amount, distribution, and suitability; (C) conservation measure that have been implemented that benefit the species; (D) threat status and trends; and (E) other new information, data, or corrections, including, but not limited, taxonomic or nonmenclatural changes, identification of erroneous information contained in the list, and improved analytical methods.

If you wish to provide information for this 5-year review, you may submit your comments and materials to Ms. Mary Parkin (see ADDRESSES section). Our practice is to make comments, including names and home addresses of respondents, available for public review during regular business hours. Respondents may request that we withhold a respondent's identity, as allowable by law. If you wish us to withhold your name or address, you must state this request prominently at the beginning of your comment. We will not, however, consider anonymous comments. To the extent consistent with applicable laws, we will make all submissions from organizations or businesses, and from individuals identifying themselves as representatives or officials of organizations or businesses, available for public inspection in their entirety. Comments and materials received will be available for public inspection, by appointment, during normal business hours (see ADDRESSES section).

Authority: This document is published under the authority of the Endangered Species Act of 1973, as amended (16 U.S.C. 1531 et seq.).

Dated: June 21, 2005.
Richard O. Bennett,
Acting Regional Director, Region 5, U.S. Fish and Wildlife Service.

[FR Doc. 05-13239 Filed 7-5-05; 8:45 am]

BILLING CODE 4310-55-M